DEPARTMENT OF ENERGY

Federal Energy Regulatory Commission

[Project No. 13247-001]

Natural Currents Energy Services, LLC; Notice of Intent To File License Application, Filing of Draft Application, Request for Waivers of Integrated Licensing Process Regulations Necessary for Expedited Processing of a Hydrokinetic Pilot Project License Application, and Soliciting Comments

January 4, 2011.

a. Type of Filing: Notice of Intent to File a License Application for an Original License for a Hydrokinetic Pilot Project.

b. Project No.: 13247-001.

c. Date Filed: December 22, 2010.

d. Submitted By: Natural Currents Energy Services, LLC.

e. Name of Project: Will's Hole Tidal Electric Project.

f. Location: The project would be located in the Manasquan River in Ocean County, New Jersey. The project would not occupy Federal lands.

g. Filed Pursuant to: 18 CFR 5.3 of the Commission's regulations.

h. Applicant Contact: Mr. Roger Bason, Natural Currents Energy Services, LLC, 24 Roxanne Boulevard, Highland, New York 12561, (845) 691-4009.

i. FERC Contact: Timothy Konnert, (202) 502-6359.

j. Natural Currents Energy Services, LLC (Natural Currents) has filed with the Commission: (1) A notice of intent (NOI) to file an application for an original license for a hydrokinetic pilot project and a draft license application with monitoring plans; (2) a request for waivers of the integrated licensing process regulations necessary for expedited processing of a hydrokinetic pilot project license application; (3) a proposed process plan and schedule; (4) a request to be designated as the non-federal representative for section 7 of the Endangered Species Act (ESA) consultation; and (5) a request to be designated as the non-Federal representative for section 106 consultation under the National Historic Preservation Act (collectively the pre-filing materials).

k. With this notice, we are soliciting comments on the pre-filing materials listed in paragraph j above, including the draft license application and monitoring plans. All comments should be sent to the address above in paragraph h. In addition, all comments may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426. Any individual or entity interested in submitting comments on the pre-filing materials must do so by March 7, 2011.

l. With this notice, we are approving Natural Currents' request to be designated as the non-federal representative for section 7 of the ESA and its request to initiate consultation under section 106 of the National Historic Preservation Act; and recommending that it begin informal consultation with: (a) The U.S. Fish and Wildlife Service and the National Marine Fisheries Service as required by section 7 of ESA; and (b) the New Jersey State Historic Preservation Officer, as required by section 106, National Historical Preservation Act, and the implementing regulations of the Advisory Council on Historic Preservation at 36 CFR 800.2.

m. This notice does not constitute the Commission's approval of Natural Currents' request to use the Pilot Project Licensing Procedures. Upon its review of the project's overall characteristics relative to the pilot project criteria, the draft license application contents, any comments filed, and Natural Currents' response to any additional information requests by the Commission, the Commission will determine whether there is adequate information to conclude the pre-filing process and approve the use the Pilot Project Licensing Procedures.

n. The proposed Will's Hole Tidal Electric Project would consist of: (1) An approximately 50-foot by 20-foot floating dock structure that would be anchored by thirteen 12-inch diameter pilings; (2) two 7.9-foot-diameter Natural Currents Red Hawk Tidal generating units, with a total installed capacity of 40 kilowatts, each surrounded by a 5-foot by 11-foot stainless steel cage; (3) a 200-foot-long underwater transmission cable that would interconnect with the existing Jersey Central Power and Light system, and (4) appurtenant facilities for operating and maintaining the project. The project is estimated to have an annual generation of 70-megawatt-hours, which would be sold to the Kingsbridge Financial Group, Inc. and Will's Hole Marina.

o. A copy of the draft license application and all pre-filing materials are available for review at the Commission in the Public Reference Room or may be viewed on the Commission's Web site at http://www.ferc.gov using the “eLibrary” link. Enter the docket number, excluding the last three digits in the docket number field to access the document. For assistance, contact FERC Online Support at FERCOnlineSupport@ferc.gov or toll free at 1-866-208-3676, or for TTY, (202) 502-8659.

p. Pre-filing process schedule. The pre-filing process will be conducted pursuant to the following tentative schedule. Revisions to the schedule below may be made based on staff's review of the draft application and any comments received.

Milestone | Date
Comments on pre-filing materials due | March 7, 2011.
Issuance of Notice of Site Visit/Meetings | March 22, 2011.
Site Visit & Public Meetings/Technical Conference | April 21, 2011.

q. Register online at http://www.ferc.gov/docs-filing/esubscription.asp to be notified via e-mail of new filing and issuances related to this or other pending projects. For assistance, contact FERC Online Support.

Kimberly D. Bose,
Secretary.

[FR Doc. 2011-303 Filed 1-10-11; 8:45 am]

BILLING CODE 6717-01-P